DEPARTMENT OF TRANSPORTATION

Surface Transportation Board

[STB Finance Docket No. 34347]

Regional Rail Right of Way Company—Acquisition and Operation Exemption—Lines of Dallas Area Rapid Transit

Regional Rail Right of Way Company (RRROW), a Class III rail carrier, has filed a verified notice of exemption under 49 CFR 1150.41 to acquire an exclusive, perpetual freight rail operating easement over the following rail lines owned by Dallas Area Rapid Transit (DART): (1) The Athens Branch East Line (a/k/a Elam Branch) between approximately milepost 314.84 (Briggs Jct.) and approximately milepost 308.8 (Pleasant Drive); (2) the Garland Line between approximately milepost D-755.27 and approximately milepost D-745.5; (3) the Rowlett Extension between approximately milepost 745.5 and approximately milepost 741.3; (4) the Carrollton Line between approximately milepost K-758.04 and approximately milepost K-741.3; (5) the Fair Park East Line between approximately milepost 210.704 (East Dallas Yard) and approximately milepost 210.078 (MP Junction); (6) the Denton Subdivision between approximately milepost K-741.3 (Carrollton) and approximately milepost K-729.5 (Lake Dallas); (7) the Sherman Subdivision between approximately milepost 290.5 (Allen) and approximately milepost 324.84 (South Sherman Jct.); (8) the White Rock/Fair Park Connector between approximately milepost 6.93 (Tenison Park) and approximately milepost 5.06 (MP Jct.); and (9) the Brookhollow Branch Line between approximately milepost 0.0 (DFW Main) and approximately milepost 3.31 (Denton Subdivision) (collectively, the lines). The total distance of the lines is approximately 92.2 miles in Collin, Dallas, Denton, Grayson, and Rockwall Counties, TX.

Pursuant to a Transfer Agreement to be entered into by and between DART and RRROW, RRROW will acquire an exclusive, perpetual freight rail operating easement and all freight common carrier obligations over the lines. RRROW states that the Dallas, Garland and Northeastern Railroad will continue to provide freight operations over the lines. In addition, DART will retain the ownership interest in the right-of-way, trackage, and other physical assets associated with the lines. Consummation of this transaction was expected to occur on or after May 12, 2003, the effective date of the exemption.

RRROW certifies that its projected annual revenues will not exceed those that would qualify it as a Class III rail carrier and that its projected annual revenues will not exceed $5 million, and thus the transaction will not result in the creation of a Class II or Class I rail carrier.

If the verified notice contains false or misleading information, the exemption is void ab initio. Petitions to revoke the exemption under 49 U.S.C. 10502(d) may be filed at any time. The filing of a petition to revoke will not automatically stay the transaction.

An original and 10 copies of all pleadings, referring to STB Finance Docket No. 34347, must be filed with the Surface Transportation Board, 1925 K Street, NW., Washington, DC 20423-0001. In addition, a copy of each pleading must be served on Edward J. Fishman, Kirkpatrick & Lockhart LLP, 1800 Massachusetts Avenue NW., Washington, DC 20036-1221.

Board decisions and notices are available on our Web site at http://www.stb.dot.gov.

Decided: May 27, 2003.
By the Board, David M. Konschnik, Director, Office of Proceedings.
Vernon A. Williams,
Secretary.

[FR Doc. 03-13865 Filed 6-2-03; 8:45 am]

BILLING CODE 4915-00-P